DEPARTMENT OF LABOR

Employment and Training Administration

[TA-W-61,270]

CNH America LLC, Belleville Manufacturing Plant, Including On-Site Leased Workers From Armstrong's, CNH Meridian, FBG Service Corporation, Industrial Distribution Group, Jim Buch's Repair Services, Jon Industrial Lube, Kelly Services, UTI Integrated Logistics, Anixter Fasteners and Rhodes Welding Belleville, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 2, 2007, applicable to workers of CNH America LLC, Belleville Manufacturing Plant, including on-site leased workers from Armstrong's, CNH Meridian, FBG Service Corporation, Industrial Distribution Group, Jim Buch's Repair Services, Jon Industrial Lube, Kelly Services, and UTI Integrated Logistics, Belleville, Pennsylvania. The notice was published in the Federal Register on May 17, 2007 (72 FR 27855). The certification was amended on May 14, 2007 to include leased workers of Anixter Fasteners working on-site at the subject firm. The notice was published in the Federal Register on May 24, 2007 (72 FR 29279)

At the request of the State agency, the Department reviewed the certification for workers of the subject firm. The workers are engaged in the production of agricultural machinery, specifically front-end loaders, hay and forage equipment (conditioners, rakes, forage harvesters, headers, and windrowers), bale wagons, and spreaders).

New information shows that leased workers of Rhodes Welding were employed on-site at the Belleville, Pennsylvania location of CNH America LLC, Belleville Manufacturing Plant.

Based on these findings, the Department is amending this certification to include leased workers of Rhodes Welding working on-site at CNH America LLC, Belleville Manufacturing Plant, Belleville, Pennsylvania.

The intent of the Department's certification is to include all workers employed at CNH America LLC, Belleville Manufacturing Plant, Belleville, Pennsylvania who were adversely affected by a shift in production to Mexico.

The amended notice applicable to TA-W-61,270 is hereby issued as follows:

All workers of CNH America LLC, Belleville Manufacturing Plant, including on-site leased workers of Armstrong's, CNH Meridian, FBG Service Corporation, Industrial Distribution Group, Jim Buch's Repair Services, Jon Industrial Lube, Kelly Services, UTI Integrated Logistics, Anixter Fasteners, and Rhodes Welding, Belleville, Pennsylvania, who became totally or partially separated from employment on or after April 9, 2006, through May 2, 2009, are eligible to apply for adjustment assistance under Section 223 of the Trade Act of 1974, and are also eligible to apply for alternative trade adjustment assistance under Section 246 of the Trade Act of 1974.

Signed at Washington, DC this 30th day of May 2007.
Richard Church,
Certifying Officer, Division of Trade Adjustment Assistance.

[FR Doc. E7-11031 Filed 6-6-07; 8:45 am]

BILLING CODE 4510-FN-P